DEPARTMENT OF LABOR

Employment and Training Administration

[TA-W-53,927]

Dixie Chips, Inc., Evergreen, AL; Notice of Termination of Investigation

Pursuant to section 221 of the Trade Act of 1974, as amended, an investigation was initiated on January 2, 2004 in response to a worker petition filed by a company official on behalf of workers at Dixie Chips, Inc., Evergreen, Alabama.

The petitioning group of workers is covered by an earlier petition filed on December 29, 2003 (TA-W-53,906) that is the subject of an ongoing investigation for which a determination has not yet been issued. Further investigation in this case would duplicate efforts and serve no purpose; therefore the investigation under this petition has been terminated.

Signed at Washington, DC, this 8th day of January, 2004.
Richard Church,
Certifying Officer, Division of Trade Adjustment Assistance.

[FR Doc. 04-2598 Filed 2-5-04; 8:45 am]

BILLING CODE 4510-30-P